DEPARTMENT OF HOMELAND SECURITY

Coast Guard

[USCG-2009-1086]

Pittsburgh Area Maritime Security Committee; Vacancies

AGENCY: Coast Guard, DHS.

ACTION: Solicitation for membership.

SUMMARY: This notice requests individuals interested in serving on the Pittsburgh Area Maritime Security Committee (AMSC) to submit their application for membership, to the Captain of the Port, Pittsburgh, Pennsylvania.

DATES: Requests for membership should reach the Pittsburgh Captain of the Port on or before June 7, 2010.

ADDRESSES: Requests for membership should be submitted to the Captain of the Port at the following address: Commander, USCG Marine Safety Unit Pittsburgh, 100 Forbes Avenue, Suite 1150, Pittsburgh, PA 15222-1371.

FOR FURTHER INFORMATION CONTACT: For questions about submitting an application or about the Pittsburgh AMSC in general, contact Mr. Dave Morgan at 412-600-7324.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these Area Maritime Security Committees (AMSCs) from the Federal Advisory Committee Act (FACA), Public Law 92-436, 86 Stat. 470 (5 U.S.C. App.2). The AMSCs shall assist the Captain of the Port in the review, update, and exercising of the AMS Plan for their area of responsibility. Such matters may include, but are not limited to: Identifying critical port infrastructure and operations; Identifying risks (threats, vulnerabilities, and consequences); Determining mitigation strategies and implementation methods; Developing strategies to facilitate the recovery of the Maritime Transportation Security (MTS) after a Transportation Security Incident; Developing and describing the process to continually evaluate overall port security by considering consequences and vulnerabilities, how they may change over time, and what additional mitigation strategies can be applied; and Providing advice to, and assisting the Captain of the Port in developing and maintaining the Area maritime Security Plan.

Pittsburgh AMSC Membership

Members of the AMSC should have at least 5 years of experience related to maritime or port security operations. The Pittsburgh AMSC is comprised of individuals who represent federal, state, local, and industry stakeholders from Pennsylvania, Ohio, and West Virginia. We are seeking to fill up to eight positions with this solicitation. Applicants may be required to pass an appropriate security background check prior to appointment to the committee. Members' term of office will be for 5 years, however, a member is eligible to serve an additional term of office. Members will not receive any salary or other compensation for their service on the AMSC. In support of the USCG policy on gender and ethnic diversity, we encourage qualified women and members of minority groups to apply.

Request for Applications

Those seeking membership are not required to submit formal applications to the local Captain of the Port, however, because we do have an obligation to ensure that a specific number of members have the prerequisite maritime security experience, we encourage the submission of résumés highlighting experience in the maritime and security industries.

Dated: March 26, 2010.
R.V. Timme,
Commander, U.S. Coast Guard, Federal Maritime Security Coordinator, Pittsburgh.

[FR Doc. 2010-10611 Filed 5-5-10; 8:45 am]

BILLING CODE 9110-04-P